DEPARTMENT OF ENERGY

Office of Environmental Management; Notice of Availability of Draft Section 3116 Determination for Salt Waste Disposal at the Savannah River Site

AGENCY: Office of Environmental Management, Department of Energy.

ACTION: Notice of availability.

SUMMARY: The Department of Energy (DOE) announces the availability of a draft Section 3116 determination for the disposal of separated, solidified, low-activity salt waste at the Savannah River Site (SRS) near Aiken, South Carolina. The determination was prepared pursuant to Section 3116 of the Ronald W. Reagan National Defense Authorization Act for Fiscal Year 2005. Section 3116 authorizes the Secretary of Energy, in consultation with the Nuclear Regulatory Commission (NRC), to determine that certain waste from reprocessing is not high-level waste (HLW) and that it may instead be disposed of as low-level waste (LLW) if it meets the provisions set forth in Section 3116. Although not required by the Act, DOE is making the draft waste determination available for public review and comment.

DATES: The comment period will end on May 16, 2005. Comments received after this date will be considered to the extent practicable.

ADDRESSES: The draft waste determination is available on the Internet at http://apps.em.doe.gov.swd, and is publicly available for review at the following locations: U.S. Department of Energy, Public Reading Room, 1000 Independence Avenue, SW., Washington, DC 20585, Phone: (202) 586-5955, or Fax: (202) 586-0575; and U.S. Department of Energy, Savannah River Operations Office, Public Reading Room, 171 University Parkway, Aiken, SC 29801, Phone: (803) 641-3320, or Fax: (803) 641-3302. Written comments should be addressed to: Mr. Randall Kaltreider, U.S. Department of Energy, Office of Environmental Management, EM-20, 1000 Independence Avenue, SW., Washington, DC 20585. Alternatively, comments can be filed electronically by e-mail to saltwastedetermination@hq.doe.gov, or by Fax at (202) 586-4314.

Supplementary Information: There are presently 36.4 million gallons (Mgal) of liquid radioactive waste stored in underground waste storage tanks at SRS. The waste consists of two distinct kinds of material: approximately 2.6 Mgal of sludge, comprised primarily of metals that settled at the bottom of the tanks; and approximately 33.8 Mgal of salt waste, which is comprised of concentrated salt solution (supernate) and crystallized saltcake.

DOE's plans call for stabilizing and disposing of retrieved sludge in a deep geologic repository for spent nuclear fuel and high-level radioactive waste. This will be done by stabilizing the HLW in a borosilicate glass matrix through vitrification in a facility known as the Defense Waste Processing Facility (DWPF). This process has been ongoing since 1996.

Regarding the salt waste, DOE contemplates removing fission products and actinides from these materials using a variety of technologies, combining the removed fission products and actinides with the sludge being vitrified in DWPF, and solidifying the remaining low-activity salt stream into a grout matrix, known as saltstone grout, suitable for disposal in vaults at the Saltstone Disposal Facility at SRS. The disposal of this low-activity salt stream is the subject of this draft waste determination.

DOE is separating the salt waste to segregate the low-activity fraction using a two-phase, three-part process. The first phase will involve two parts to treat the lower activity salt waste: (1) Beginning in 2005, DOE will process a minimal amount of the lowest-activity salt waste through a process involving deliquification, dissolution, and adjustment (DDA) of the waste; and (2) beginning in approximately 2007, DOE will process a minimal amount of additional salt waste with slightly higher activity levels using an Actinide Removal Process and a Modular Caustic Side Solvent Extraction Unit, along with deliquification and dissolution of the saltcake. The second, and longer-term phase, which is scheduled to begin in approximately 2009, involves the separation and processing of the remaining (and by far the majority) of the salt waste using a Salt Waste Processing Facility (SWPF), augmented as necessary by the Actinide Removal Process. This second phase will begin as soon as the Salt Waste Processing Facility is constructed, permitted by the State of South Carolina, and operational.

DOE believes that this two-phase, three-part approach to processing and disposing of the salt waste at SRS will enable it to complete cleanup and closure of the tanks years earlier and maximize reduction of the potential risks that the tank wastes pose to the environment, the public, and SRS workers. Taken together, the various technologies that will be used are expected to result in the removal and vitrification through the Defense Waste Processing Facility of approximately 98% to 99% of the total radioactivity currently contained in the salt waste, while minimizing the time that waste will be stored in the underground tanks, some of which have a known history of leaks.

Final Determination: DOE will issue a final salt-waste determination following the completion of consultation with the NRC, and consideration of any public comments.

Issued in Washington, DC, on March 28, 2005.
Charles Anderson,
Environmental Management.

[FR Doc. 05-6459 Filed 3-31-05; 8:45 am]

BILLING CODE 6450-01-P